DEPARTMENT OF DEFENSE

Office of the Secretary

Defense Advisory Committee on Investigation Prosecution and Defense of Sexual Assault in the Armed Forces; Notice of Federal Advisory Committee Meeting

AGENCY: General Counsel of the Department of Defense, Department of Defense.

ACTION: Notice of Federal Advisory Committee meeting.

SUMMARY: The Department of Defense (DoD) is publishing this notice to announce that the following Federal Advisory Committee meeting of the Defense Advisory Committee on Investigation Prosecution and Defense of Sexual Assault in the Armed Forces will take place.

DATES: Day 1—Open to the public, Thursday, October 19, 2017 from 1:15 p.m. to 5:00 p.m. Day 2—Open to the public, Friday, October 20, 2017 from 8:45 a.m. to 3:15 p.m.

ADDRESSES: One Liberty Center, 875 N. Randolph Street, Suite 1432, Arlington, Virginia 22203.

FOR FURTHER INFORMATION CONTACT: Dwight Sullivan, 703-695-1055 (Voice), 703-693-3903 (Facsimile), dwight.h.sullivan.civ@mail.mil (Email). Mailing address is DACIPAD, One Liberty Center, 875 N. Randolph Street, Suite 150, Arlington, Virginia 22203. Web site: http://dacipad.whs.mil/. The most up-to-date changes to the meeting agenda can be found on the Web site.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: In section 546 of the National Defense Authorization Act for Fiscal Year 2015 (Pub. L. 113-291), as modified by section 537 of the National Defense Authorization Act for Fiscal Year 2016 (Pub. L. 114-92), Congress tasked the DAC-IPAD to advise the Secretary of Defense on the investigation, prosecution, and defense of allegations of rape, forcible sodomy, sexual assault, and other sexual misconduct involving members of the Armed Forces. This will be the fourth public meeting held by the DAC-IPAD. On the first day of the meeting, the Committee will hear testimony from a former senior airman who is a sexual assault survivor. The Committee will then receive a briefing on the Department of Defense and Military Services' sexual assault-related expedited transfer policies. For the last session of the day, the Committee will hear from senior military special victims' counsel and victims' legal counsel about their experiences assisting clients with expedited transfers and their perspectives on the victims' counsel program. On the second day of the meeting, the Committee will hear from a panel of company, squadron, or Service equivalent commanders and their senior enlisted advisors about the sexual assault military justice and response training they received and their experience dealing with sexual assault allegations. Next, the Committee will hear from a panel of special court-martial convening authorities regarding the sexual assault military justice and response training they received and their experience dealing with sexual assault allegations and making initial case disposition decisions. For the last session, the DAC-IPAD Case Review Working Group will update the Committee on the working group members' review of sample sexual assault cases. Agenda: Thursday, October 19, 2017: 1:15 p.m.-1:30 p.m. Public Meeting Begins—Welcome and Introduction; 1:30 p.m.-2:30 p.m. Perspective of a Sexual Assault Survivor; 2:30 p.m.-3:20 p.m. Briefing on the Department of Defense (DoD) and Military Services' Expedited Transfer Policies; 3:20 p.m.-3:30 p.m. Break; 3:30 p.m.-5:00 p.m. Service Special Victims' Counsel/Victims' Legal Counsel (SVC/VLC) Perspectives on the Expedited Transfer Policy and SVC/VLC Program; 5:00 p.m. Public Meeting Adjourned.

Friday, October 20, 2017: 8:45 a.m.-9:00 a.m. Public Meeting Begins—Welcome and Introduction: 9:00 a.m.—11:30 a.m. Company, Squadron, or Service Equivalent Commander and Senior Enlisted Advisor Perspectives on Sexual Assault Military Justice Training and Sexual Assault Response Training; 11:30 a.m.-12:30 p.m. Lunch; 12:30 p.m.-2:20 p.m. Special Court Martial Convening Authority Perspectives on Sexual Assault Military Justice Training and Sexual Assault Response Training; 2:30 p.m.-3:00 p.m. Committee Update from DAC-IPAD Case Review Working Group; 3:00 p.m.-3:15 p.m. Public Comment; 3:15 p.m. Public Meeting Adjourned.

Meeting Accessibility: Pursuant to 5 U.S.C. 552b and 41 CFR 102-3.140 through 102-3.165, and the availability of space, this meeting is open to the public. Seating is limited and is on a first-come basis. Visitors are required to sign in at the One Liberty Center security desk and must leave government-issued photo identification on file and wear a visitor badge while in the building. Department of Defense Common Access Card (CAC) holders who do not have authorized access to One Liberty Center must provide an alternate form of government-issued photo identification to leave on file with security while in the building. All visitors must pass through a metal detection security screening. Individuals requiring special accommodations to access the public meeting should contact the DAC-IPAD at whs.pentagon.em.mbx.dacipad@mail.mil at least five (5) business days prior to the meeting so that appropriate arrangements can be made. In the event the Office of Personnel Management closes the government due to inclement weather or for any other reason, please consult the Web site for any changes to the public meeting date or time.

Written Statements: Pursuant to 41 CFR 102-3.140 and section 10(a)(3) of the Federal Advisory Committee Act of 1972, the public or interested organizations may submit written comments to the Committee about its mission and topics pertaining to this public session. Written comments must be received by the DAC-IPAD at least five (5) business days prior to the meeting date so that they may be made available to the Committee members for their consideration prior to the meeting. Written comments should be submitted via email to the DAC-IPAD at whs.pentagon.em.mbx.dacipad@mail.mil in the following formats: Adobe Acrobat or Microsoft Word. Please note that since the DAC-IPAD operates under the provisions of the Federal Advisory Committee Act, as amended, all written comments will be treated as public documents and will be made available for public inspection. Oral statements from the public will be permitted, though the number and length of such oral statements may be limited based on the time available and the number of such requests. Oral presentations by members of the public will be permitted from 3:00 p.m. to 3:15 p.m. on October 20, 2017, in front of the Committee members.

Dated: September 25, 2017.
Aaron Siegel,
Alternate OSD Federal Register Liaison Officer, Department of Defense.

[FR Doc. 2017-20882 Filed 9-28-17; 8:45 am]

BILLING CODE 5001-06-P